DEPARTMENT OF ENERGY

Federal Energy Regulatory Commission

[Docket No. CP13-485-000]

Texas Gas Transmission, LLC; Notice of Effectiveness of Withdrawal of Application and Termination of Proceeding

On June 3, 2014, Texas Gas Transmission, LLC filed a Notice of Withdrawal to withdraw its application under section 7(b) of the Natural Gas Act ¹ for authorization to abandon by sale to an affiliate, Boardwalk Pipelines, LP, approximately 568 miles of 26-inch-diameter pipeline on its mainline system from Eunice, Louisiana, through Mississippi and Tennessee to Hardinsburg, Kentucky, as well as associated pipeline facilities in Docket No. CP13-485-000.

¹ 15 U.S.C. 717f(c) (2012).

No motion in opposition to the notice was filed with the Commission within 15 days of the filing and the Commission did not disallow the withdrawal within that period. Therefore, pursuant to 18 CFR 385.216(b) (2014), the withdrawal became effective on June 18, 2014, 15 days from the date of filing of the notice, and the proceeding was terminated.

Dated: July 30, 2014.
Kimberly D. Bose,
Secretary.

[FR Doc. 2014-18486 Filed 8-4-14; 8:45 am]

BILLING CODE 6717-01-P